DEPARTMENT OF COMMERCE

National Oceanic and Atmospheric Administration

50 CFR Part 622

RIN 0648-AU29

Fisheries of the Caribbean, Gulf of Mexico, and South Atlantic; Snapper-Grouper Fishery off the Southern Atlantic States; Amendment 15A

AGENCY: National Marine Fisheries Service (NMFS), National Oceanic and Atmospheric Administration (NOAA), Commerce.

ACTION: Notice of Availability of Amendment 15A to the South Atlantic Snapper-Grouper Fishery Management Plan; request for comments.

SUMMARY: The South Atlantic Fishery Management Council (Council) has submitted Amendment 15A to the Fishery Management Plan for the Snapper-Grouper Fishery of the South Atlantic Region (FMP) for review, approval, and implementation by NMFS. Amendment 15A proposes actions to update management reference points for snowy grouper, black sea bass, and red porgy based on the most recent stock assessments; modify rebuilding schedules for snowy grouper and black sea bass; define rebuilding strategies for snowy grouper, black sea bass, and red porgy; and redefine the minimum stock size threshold for the snowy grouper stock. The measures contained in the subject amendment are intended to satisfy a U.S. District Court Order to establish rebuilding plans for South Atlantic snowy grouper and black sea bass and for the Secretary of Commerce (Secretary) to approve, amend, or disapprove Amendment 15A by March 14, 2008.

DATES: Comments must be received no later than 5 p.m., eastern time, on February 26, 2008.

ADDRESSES: You many submit comments, identified by “0648-AU29”, by any of the following methods:

• Electronic Submissions: Submit all electronic public comments via the Federal e-Rulemaking Portal http://www.regulations.gov.

• Fax: 727-824-8308, Attn: John McGovern.

• Mail: John McGovern, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

Requests for copies of Amendment 15A, which includes an environmental impact statement, a regulatory impact review, a regulatory flexibility analysis, and a fishery impact statement, should be sent to the South Atlantic Fishery Management Council, 4055 Faber Place, Suite 201, North Charleston, SC 29405; telephone 843-571-4366; fax 843-769-4520; e-mail safmc@safmc.net.

FOR FURTHER INFORMATION CONTACT: John McGovern, telephone: 727-824-5305; fax: 727-824-5308; e-mail: John.McGovern@noaa.gov.

SUPPLEMENTARY INFORMATION: The South Atlantic snapper-grouper fishery is managed under the FMP. The FMP was prepared by the Council and implemented by NMFS under the authority of the Magnuson-Stevens Fishery Conservation and Management Act (Magnuson-Stevens Act) by regulations at 50 CFR part 622.

Background

Stock assessments performed through the Southeast Data Assessment and Review process have revealed that the South Atlantic stocks of snowy grouper (Epinephelus niveatus), black sea bass (Centropristis striata), and red porgy (Pagrus pagrus) are overfished. Furthermore, snowy grouper and black sea bass are undergoing overfishing. The Council is required by the Magnuson-Stevens Act to implement rebuilding plans for these overfished species. The intent of a rebuilding plan is to increase biomass of overfished stocks to a sustainable level (Bmsy) within a specified period of time.

On August 17, 2007, the United States District Court for the District of Columbia, issued a ruling on Amendment 13C to the FMP (North Carolina Fisheries Association, Inc., et al., v. Carlos Gutierrez, Secretary, United States Department of Commerce, Case No. 06-1815 (D.O.C. 2006)). The Court found that a plan to rebuild snowy grouper and black sea bass should have been included in Amendment 13C because those two species were overfished. The Court then issued an Order on October 2, 2007, requiring, among other things, the Secretary to approve, amend, or disapprove Amendment 15A by March 14, 2008. Amendment 15A is intended to fulfill the Court's Order in a timely manner.

Proposed Provisions of Amendment 15A

Amendment 15A proposes updated management reference points for snowy grouper, black sea bass, and red porgy based on the most recent stock assessments; modifies rebuilding schedules for snowy grouper and black sea bass; proposes rebuilding strategies for snowy grouper, black sea bass, and red porgy; and redefines the minimum stock size threshold (MSST) for the snowy grouper stock.

New biological reference points for snowy grouper would include a maximum sustainable yield (MSY) of 313,056 lb (142,000 kg) whole weight (ww), an optimum yield (OY) of 303,871 lb (137,834 kg) ww, and an MSST of 3,498,735 lb (1,587,000 kg) ww that would establish a larger buffer between what is considered to be an overfished and a rebuilt condition. This amendment proposes to establish a 34-year rebuilding schedule for snowy grouper based on the maximum recommended period of time needed to rebuild the stock, where 2006 is year 1. The rebuilding strategy for snowy grouper specifies a 2009 total allowable catch (TAC) of 102,960 lb (46,702 kg) ww that would remain in effect until modified through subsequent action.

Based on the most recent stock assessment, Amendment 15A proposes an MSY for red porgy equal to 625,699 lb (283,812 kg) ww, and an OY equal to 608,099 lb (275,829 kg) ww. The rebuilding strategy for red porgy would maintain a constant fishing mortality rate throughout the stock's rebuilding time frame of 18 years, which began in 1999. A proposed TAC of 395,281 lb (179,296 kg) ww would remain in effect until modified through subsequent action.

Based on the most recent stock assessment for black sea bass in the South Atlantic region, Amendment 15A proposes an MSY equal to 2,777,825 lb (1,260,000 kg) ww, and an OY equal to 2,742,551 lb (1,244,000 kg) ww. Amendment 15A proposes a 10-year rebuilding schedule for black sea bass, based on the maximum recommended period of time needed to rebuild the stock, where 2006 is year 1. The rebuilding strategy for black sea bass would maintain constant catch during the rebuilding time frame, with a proposed 2009 TAC of 847,000 lb (384,193 kg) ww, which would remain in effect until modified through subsequent action.

Procedural Aspects of Amendment 15A

The Council has submitted Amendment 15A for Secretarial review, approval, and implementation. NMFS' decision to approve, partially approve, or disapprove Amendment 15A will be based, in part, on consideration of comments, recommendations, and information received during the comment period on this notice of availability. After consideration of these factors, and consistency with the Magnuson-Stevens Act and other applicable laws, NMFS will publish a notice of agency action in the Federal Register announcing the Agency's decision to approve, partially approve, or disapprove Amendment 15A, and the associated rationale. Because none of the measures included in the amendment involve regulatory changes, no proposed or final rule is required at this time. If approved, the provisions of Amendment 15A would not be specified in regulations but would be considered to be an amendment to the FMP. Any subsequent regulatory management measures resulting from the rebuilding plan, would be implemented via plan amendment or regulatory amendment with associated proposed rules, public comment, and final rules.

Consideration of Public Comments

Public comments received by 5 p.m. eastern time, on February 26, 2008, will be considered by NMFS in the approval/disapproval decision regarding Amendment 15A.

Authority: 16 U.S.C. 1801 et seq.

Dated: December 20, 2007
James P. Burgess,
Acting Director, Office of Sustainable Fisheries, National Marine Fisheries Service.

[FR Doc. E7-25248 Filed 12-27-07; 8:45 am]

BILLING CODE 3510-22-S